DEPARTMENT OF TRANSPORTATION

Office of the Secretary

Agency Information Collection Activity Under OMB Review; Request for Extension Without Change of Previously Approved Information Collection

AGENCY: Office of the Secretary, DOT.

ACTION: Notice and Request for Comments.

SUMMARY: In accordance with the Paperwork Reduction Act of 1995 (44 U.S.C. Chapter 35, as amended) this notice announces the Department of Transportation's (DOT) intention to request an extension without change for a currently approved information collection.

DATES: Comments on this notice must be received by November 19, 2002.

ADDRESSES: To ensure that you do not duplicate your docket submissions, please submit them by only one of the following means:

(1) By mail to the Docket Management Facility (SVC-124), U.S. Department of Transportation, Room PL-401, 400 Seventh Street SW., Washington, DC 20590-0001. [It is important to note that because of current security procedures affecting the U.S. Mail, other means (e.g., FedEx, UPS) may be faster];

(2) By delivery to room PL-401 on the Plaza Level of the Nassif Building, 400 Seventh Street SW., Washington, DC, between 9 a.m. and 5 p.m., Monday through Friday, except Federal holidays. The telephone number is (202) 366-9329;

(3) By fax to the Docket Management Facility at (202)493-2251; or

(4) By electronic means through the Web Site for the Docket Management System at: http://dms.dot.gov.

The Docket Management Facility maintains the public docket for this regulation. Comments to the docket will be available for inspection or copying at room PL-401 on the Plaza Level of the Nassif Building, 400 Seventh Street SW., Washington, DC, between 9 a.m. and 5 p.m., Monday through Friday, except Federal holidays. The public may also review docketed comments electronically at: http://dms.dot.gov.

FOR FURTHER INFORMATION CONTACT: Jack Schmidt, Competition and Policy Analysis Division (X-55), Office of Aviation Analysis, Office of the Secretary, U.S. Department of Transportation, 400 Seventh Street, SW., Washington, DC 20590, (202) 366-5420.

SUPPLEMENTARY INFORMATION: Title: Passenger Manifest Information.

Expiration Date: October 31, 2002.

OMB Control Number: 2105-0534.

Type of Request: Extension without change of a previously approved collection.

Abstract: Public Law 101-604 (entitled the Aviation Security Improvement Act of 1990, or “ASIA 90”, and later codified as 49 U.S.C. 44909) requires that certificated air carriers and large foreign air carriers collect the full name of each U.S. citizen traveling on flight segments to or from the United States and solicit a contact name and telephone number. In case of an aviation disaster, airlines would be required to provide the information to the Department of State and, in certain instances, to the National Transportation Safety Board. Each carrier would develop its own collection system. The Passenger Manifest Information; Final Rule (14 CFR 243) was published in the Federal Register, Vol. 63. No.32 (February 18, 1998). The rule was effective March 20, 1998.

Respondents: U.S. and foreign air carriers.

Estimated Number of Respondents: 23,245.

Total Annual Responses: 53.8 million.

Estimated Total Burden on Respondents: 1.05 million hours.

Comments are invited on: (a) Whether the continued collection of information is necessary for the proper performance of the functions of the Department, including whether the information will have practical utility; (b) the accuracy of the Department's estimate of the burden of the current information collection; (c) ways to enhance the quality, utility, and clarity of the information being collected, and (d) ways to minimize the burden of the collection of information of respondents, including the use of automated collection techniques or other forms of information technology.

All responses to this notice will be summarized and included in the request for OMB approval. All comments will also become a matter of public record.

Issued in Washington, DC on September 12, 2002.
Randall D. Bennett,
Director, Office of Aviation Analysis.

[FR Doc. 02-23918 Filed 9-19-02; 8:45 am]

BILLING CODE 4910-62-P